DEPARTMENT OF COMMERCE

Economic Development Administration

Notice of Petitions by Firms for Determination of Eligibility To Apply for Trade Adjustment Assistance

AGENCY: Economic Development Administration, Department of Commerce.

ACTION: Notice and opportunity for public comment.

Pursuant to section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[1/1/2016 through 5/10/2016]
Firm name | Firm address | Date accepted for investigation | Product(s)
Custom Gear & Machine, Inc | 5466 East Rockton Road, Roscoe, IL 61073 | 4/1/2016 | The firm manufactures custom machined and ground metal gears.
Photo Solutions, Inc | 603 California Avenue, Vernonia, OR 97064 | 5/5/2016 | The firm manufactures encoder discs, scales, masks, and film.
Precision Composites of Vermont, LLC | 620 Gilman Street, Lyndon Center, VT 05850 | 5/10/2016 | The firm manufactures formed composite and plastic solutions.
M&M Automatic Products, Inc | 420 Ingham Street, Jackson, MI 49201 | 5/10/2016 | The firm manufactures crew machining of turned products, including nuts, bolts, washers, bushings, threaded inserts, and spacers.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: May 10, 2016.
Miriam Kearse,
Lead Program Analyst.

[FR Doc. 2016-11465 Filed 5-13-16; 8:45 am]

BILLING CODE 3510-WH-P